SMALL BUSINESS ADMINISTRATION

National Women's Business Council

Federal Advisory Committee Meeting

AGENCY: U.S. Small Business Administration.

ACTION: Notice of open Federal advisory committee meeting.

SUMMARY: The SBA is issuing this notice to announce the location, date, time, and agenda for the next meeting of the National Women's Business Council (NWBC). The meeting will be open to the public.

DATES: The meeting will be held on January 22, 2013 from approximately 11:30 a.m. to 2:00 p.m. EDT.

ADDRESSES: The meeting will be held via web teleconference.

Participant Instructions

The web conference is scheduled to begin at 11:30 a.m. Eastern Time on January 22, 2013. You may join the web conference 15 minutes prior to the scheduled start by clicking Webinar Login: http://emsp.intellor.com/login/411593.

Dial-in: After you've connected your computer, audio connection instructions will be presented. If you need technical support or additional information regarding our events, please visit our portal at http://emsp.intellor.com/portal/sbaevents or contact AT&T Connect Support at 1-888-796-6118.

Teleconference option: day of event dial 1-888-621-9649, when prompt enter ID 411593.

SUPPLEMENTARY INFORMATION: Pursuant to section 10(a)(2) of the Federal Advisory Committee Act (5 U.S.C., Appendix 2), SBA announces the meeting of the National Women's Business Council. The National Women's Business Council is tasked with providing policy recommendations on issues of importance to women business owners to the President, Congress, and the SBA Administrator.

The purpose of the meeting is to discuss NWBC's 2013 action items and the status of current research projects.

FOR FURTHER INFORMATION CONTACT: The meeting is open to the public however advance notice of attendance is requested. Anyone wishing to attend or make a presentation to the NWBC must either email their interest to info@nwbc.gov or call the main office number at 202-205-3850.

Those needing special accommodation in order to attend or participate in the meeting, please contact 202-205-3850 no later than January 15, 2013.

For more information, please visit our Web site at www.nwbc.gov.

Anie J. Borja,
Executive Director.

[FR Doc. 2012-30137 Filed 12-13-12; 8:45 am]

BILLING CODE P